DEPARTMENT OF COMMERCE

Bureau of Industry and Security

Deemed Export Advisory Committee; Notice To Solicit Meeting Speakers and Presentations

The Deemed Export Advisory Committee (DEAC), which advises the Secretary of Commerce on deemed export licensing policy, will meet on Tuesday, June 19, 2007 from approximately 8:30 a.m. to 12:30 p.m. The DEAC is a Federal Advisory Committee that was established under the auspices of the Federal Advisory Committee Act, as amended, 5 U.S.C. app. 2. The meeting location will be Boston, MA, with exact details to be announced in a subsequent Federal Register Notice. At this time, the Department of Commerce, Bureau of Industry and Security (BIS), would like to solicit stakeholders from industry, academia and other backgrounds to address the DEAC members on June 19 in an open session on issues related to deemed exports and, in particular, their organizations' perspectives and concerns related to U.S. deemed export control policies. Stakeholders are those individuals or organizations who have some experience in or knowledge of export control regulations and policies, who must apply these rules in the course of normal business or whose operations are directly impacted by those export regulations and policies mandated by the U.S. government. BIS seeks to have an equal number of presenters from industry, academia, and other backgrounds. There may be up to three presenters from each group and speaking time may be limited to 10 minutes or less per speaker depending on the number of interested parties. Speakers may be selected on the basis of one or more of the following criteria (not in any order of importance): (1) Demonstrated experience in and knowledge of export control regulations; (2) demonstrated ability to provide DEAC members with relevant information related to deemed export policies and issues; (3) the degree to which the organization is impacted by the U.S. Government's export policies and regulations; and (4) industry area or academic type of institution represented. BIS reserves the right to limit the number of participants based on time considerations. For planning purposes, BIS requests that (1) that interested parties inform BIS of their commitment, via e-mail or telephone call, to address the DEAC no later than 5 p.m. EST May 30, 2007, as well as provide a brief outline of the topics to be discussed by this same deadline; and, (2) that once interested parties receive confirmation of their participation at the meeting, they provide either an electronic or paper copy of any prepared remarks/presentations no later than 5 p.m. EST June 12, 2007. Interested parties may contact Ms. Yvette Springer at Yspringer@bis.doc.gov or (202) 482-2813. The purpose of this solicitation is only to accept speakers for the June 19, 2007 DEAC meeting. However, all members of the public may submit written comments to BIS at any time for the DEAC's consideration.

Dated: May 16, 2007.
Yvette Springer,
Committee Liaison Officer.

[FR Doc. 07-2509 Filed 5-18-07; 8:45 am]

BILLING CODE 3510-JT-M